DEPARTMENT OF ENERGY

Federal Energy Regulatory Commission

[Project Nos. 13753-002; 13762-002; 13771-002; 13763-002; 13766-002; 13767-002]

Notice of Applications Tendered for Filing With the Commission and Soliciting Additional Study Requests: FFP Missouri 16, LLC; FFP Missouri 15, LLC; Solia 8 Hydroelectric, LLC; FFP Missouri 13, LLC; Solia 5 Hydroelectric, LLC; Solia 4 Hydroelectric, LLC

Take notice that the following hydroelectric applications have been filed with the Commission and are available for public inspection.

a. Type of Applications: Original Major Licenses.

b. Project Nos.: 13753-002; 13762-002; 13771-002; 13763-002; 13766-002; 13767-002.

c. Date Filed: February 27, 2014.

d. Applicants: FFP Missouri 16, LLC; FFP Missouri 15, LLC; Solia 8 Hydroelectric, LLC; FFP Missouri 13, LLC; Solia 5 Hydroelectric, LLC; Solia 4 Hydroelectric, LLC. All applicants are subsidiaries of Free Flow Power Corporation.

e. Names of Projects: Opekiska Lock and Dam Hydroelectric Project, 13753-002; Morgantown Lock and Dam Hydroelectric Project, 13762-002; Point Marion Lock and Dam Hydroelectric Project, 13771-002; Grays Landing Lock and Dam Hydroelectric Project, 13763-002; Maxwell Lock and Dam Hydroelectric Project, 13766-002; and Monongahela Lock and Dam Number Four Hydroelectric Project, 13767-002. These projects are collectively referred to as the “Monongahela River projects.”

f. Locations: The proposed projects would be located at U.S. Army Corps of Engineers' (Corps) dams on the Monongahela River in Monongalia County, West Virginia and Fayette, Greene, and Washington counties, Pennsylvania (see table below for specific locations). The projects would occupy 39.75 acres of federal land managed by the Corps.

Project No. | Projects | County and State | City/town
P-13753 | Opekiska Lock and Dam | Monongalia, WV | Between Fairmont and Morgantown.
P-13762 | Morgantown Lock and Dam | Monongalia, WV | Morgantown.
P-13771 | Point Marion Lock and Dam | Fayette, PA | Point Marion.
P-13763 | Grays Landing Lock and Dam | Greene, PA | Near Masontown.
P-13766 | Maxwell Lock and Dam | Washington, PA | Downstream of Fredericktown.
P-13767 | Monongahela Lock and Dam Number Four | Washington, PA | Charleroi.

g. Filed Pursuant to: Federal Power Act, 16 USC 791 (a)-825(r).

h. Applicant Contact: Thomas Feldman, Vice President, Free Flow Power Corporation, 239 Causeway Street, Suite 300, Boston, MA 02114; or at (978) 283-2822.

Ramya Swaminathan, Chief Operating Officer, Free Flow Power Corporation, 239 Causeway Street, Suite 300, Boston, MA 02114; or at (978) 238-2822.

Daniel Lissner, General Counsel, Free Flow Power Corporation, 239 Causeway Street, Suite 300, Boston, MA 02114; or at (978) 283-2822.

i. FERC Contact: Nicholas Ettema, (202) 502-6565 or nicholas.ettema@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian tribe, or person believes that an additional scientific study should be conducted in order to form an adequate factual basis for a complete analysis of the application on its merit, the resource agency, Indian tribe, or person must file a request for a study with the Commission not later than 60 days from the date of filing of the application, and serve a copy of the request on the applicant.

l. Deadline for filing additional study requests and requests for cooperating agency status: April, 28 2014.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include the docket number(s) for the project(s) (e.g., P-13753-002).

m. The applications are not ready for environmental analysis at this time.

n. The proposed Opekiska Lock and Dam Hydroelectric Project would be the most upstream project at river mile (RM) 115.4 and would consist of the following new facilities: (1) A 180-foot-long, 95-foot-wide intake channel containing a 30-foot-long, 50-foot-high, 70-foot-wide intake structure with 3-inch bar spacing trashracks; (2) a 120-foot-long, 60-foot-high, 70-foot-wide reinforced concrete powerhouse on the west bank of the river; (3) two turbine-generator units with a combined capacity of 6.0 megawatts (MW); (4) a 280-foot-long, 64-foot-wide tailrace; (5) a 40-foot-long by 40-foot-wide substation; (6) a 3,511-foot-long, 12.5-kilovolt (kV), overhead transmission line to connect the project substation to an existing distribution line; and (7) appurtenant facilities. The average annual generation would be 25,300 megawatt-hours (MWh).

The proposed Morgantown Lock and Dam Hydroelectric Project would be located at RM 102.0 and consist of the following new facilities: (1) A 280-foot-long, 80-foot-wide intake channel containing a 30-foot-long, 50-foot-high, 70-foot-wide intake structure with 3-inch bar spacing trashracks; (2) a 120-foot-long, 60-foot-high, 70-foot-wide reinforced concrete powerhouse on the east bank of the river; (3) two turbine-generator units with a combined capacity of 5.0 MW; (4) a 200-foot-long, 70-foot-wide tailrace; (5) a 40-foot-long by 40-foot-wide substation; (6) a 2,600-foot-long, 12.5-kV, overhead transmission line to connect the project substation to an existing distribution line; and (7) appurtenant facilities. The average annual generation would be 18,900 MWh.

The proposed Point Marion Lock and Dam Hydroelectric Project would be located at RM 90.8 and consist of the following new facilities: (1) A 280-foot-long, 90-foot-wide intake channel containing a 30-foot-long, 50-foot-high, 70-foot-wide intake structure with 3-inch bar spacing trashracks; (2) a 120-foot-long, 60-foot-high, 70-foot-wide reinforced concrete powerhouse on the east bank of the river; (3) two turbine-generator units with a combined capacity of 5.0 MW; (4) a 215-foot-long, 90-foot-wide tailrace; (5) a 40-foot-long by 40-foot-wide substation; (6) a 3,320-foot-long, 69-kV, overhead transmission line to connect the project substation to an existing substation; and (7) appurtenant facilities. The average annual generation would be 16,500 MWh.

The proposed Grays Landing Lock and Dam Hydroelectric Project would be located at RM 82.0 and consist of the following new facilities: (1) A 300-foot-long, 130-foot-wide intake channel containing a 100-foot-long, 84-foot-wide intake structure with 3-inch bar spacing trashracks; (2) a 576-foot-long, 2.5-foot-high adjustable crest gate on top of the existing dam crest; (3) a 150-foot-long, 75-foot-high, 90-foot-wide reinforced concrete powerhouse on the west bank of the river; (4) two turbine-generator units with a combined capacity of 12.0 MW; (5) a 250-foot-long, 84-foot-wide tailrace; (6) a 40-foot-long by 40-foot-wide substation; (7) a 9,965-foot-long, 69-kV, overhead transmission line to connect the project substation to an existing distribution line; and (8) appurtenant facilities. The average annual generation would be 47,300 MWh.

The proposed Maxwell Lock and Dam Hydroelectric Project would be located at RM 61.2 and consist of the following new facilities: (1) A 130-foot-long, 85-foot-wide intake channel located immediately downstream of the Corps' 5th spillway gate on the east side of the river; (2) a pair of spill gates totaling 84 feet wide located within the proposed intake channel; (3) a 100-foot-long, 70-foot-high, 85-foot-wide intake structure with 3-inch bar spacing trashracks; (4) a 150-foot-long, 70-foot-high, 90-foot-wide reinforced concrete powerhouse; (5) two turbine-generator units with a combined capacity of 13.0 MW; (6) a 160-foot-long, 120-foot-wide tailrace; (7) a 40-foot-long by 40-foot-wide substation; (8) a 350-foot-long, 69/138 kV, overhead transmission line to connect the project substation to an existing distribution line; and (9) appurtenant facilities. The average annual generation would be 56,800 MWh.

The proposed Monongahela Lock and Dam Number Four Hydroelectric Project would be located at RM 41.5 and consist of the following new facilities: (1) A 140-foot-long, 90-foot-wide intake channel located immediately downstream of the Corps' 5th spillway gate on the west side of the river; (2) a pair of spill gates totaling 84 feet wide located within the proposed intake channel; (3) a 100-foot-long, 64-foot-high, 90-foot-wide intake structure with 3-inch bar spacing trashracks; (4) a 150-foot-long, 70-foot-high, 90-foot-wide reinforced concrete powerhouse; (5) two turbine-generator units with a combined capacity of 12.0 MW; (6) a 210-foot-long, 130-foot-wide tailrace; (7) a 40-foot-long by 40-foot-wide substation; (8) a 45-foot-long, 69-kV, overhead transmission line to connect the project substation to an existing distribution line; and (9) appurtenant facilities. The average annual generation would be 48,500 MWh.

Free Flow Power proposes to operate all six projects in a “run-of-river” mode using flows made available by the Corps. The proposed projects would not change existing flow releases or water surface elevations upstream or downstream of the proposed projects.

o. Location of the Applications: A copy of each application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. Copies are also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Milestone | Date
Issue Notice of Acceptance | April 2014.
Issue Scoping Document 1 for Comments | May 2014.
Hold Scoping Meeting | June 2014.
Comments Due on Scoping Document 1 | July 2014.
Issue Scoping Document 2 | August 2014.
Issue Notice of Ready for Environmental Analysis | August 2014.
Commission Issues EA | February 2015.

Dated: March 13, 2014.
Kimberly D. Bose,
Secretary.

[FR Doc. 2014-06116 Filed 3-19-14; 8:45 am]

BILLING CODE 6717-01-P